DEPARTMENT OF HOMELAND SECURITY

Coast Guard

33 CFR Part 165

[Docket No. USCG-2016-0345]

Safety Zone, Chicago Harbor, Navy Pier Southeast, Chicago, IL

AGENCY: Coast Guard, DHS.

ACTION: Notice of enforcement of regulation.

SUMMARY: The Coast Guard will enforce the Navy Pier Southeast Safety Zone within the Chicago Harbor during specified times from April 23, 2016 through January 1, 2017. This action is necessary and intended to ensure the safety of life and property on navigable waters prior to, during, and immediately after the firework displays. During the enforcement periods listed below, the Coast Guard will enforce restrictions upon, and control movement of vessels that transit this regulated area with the approval from the Captain of the Port Lake Michigan.

DATES: The regulation in 33 CFR 165.931 will be enforced at specified times between April 23, 2016 through January 1, 2017.

FOR FURTHER INFORMATION CONTACT: If you have questions about this notice of enforcement, call or email LT Lindsay Cook, Waterways Management Division, Marine Safety Unit Chicago, at 630-986-2155, email address Lindsay.N.Cook@uscg.mil.

SUPPLEMENTARY INFORMATION: The Coast Guard will enforce Safety Zone; Chicago Harbor, Navy Pier Southeast, Chicago, IL listed in 33 CFR 165.931, on April 23, 2016 from 10 p.m. until 10:45 p.m. and on each Saturday between May 28, 2016 through September 3, 2016 from 10 p.m. until 10:45 p.m. and each Wednesday from June 1, 2016 through August 31, 2016 at 9:15 p.m. until 10 p.m. Additionally, this safety zone will also be enforced on May 27, 2016 from 9 p.m. until 10:30 p.m., on June 10, 2016 from 9:15 p.m. until 10 p.m., on July 4, 2016 from 9:15 p.m. until 10 p.m., on July 28, 2016, July 29, 2016, September 10, 2016, and October 29, 2016 from 9:15 p.m. until 10:30 p.m., and on December 31, 2016 from 11:45 p.m. until 12:30 a.m. on January 1, 2017.

This safety zone encompasses all waters of Lake Michigan within Chicago Harbor bounded by coordinates beginning at 41°53′26.5″ N, 087°35′26.5″ W; then south to 41°53′7.6″ N, 087°35′26.3″ W; then west to 41°53′7.6″ N, 087°36′23.2″ W; then north to 41°53′26.5″ N, 087°36′24.6″ W; then east back to the point of origin (NAD 83). During the enforcement period, no vessel may transit this regulated area without approval from the Captain of the Port Lake Michigan (COTP) or a COTP designated representative. Vessels and persons granted permission to enter the safety zone shall obey all lawful orders or directions of the Captain of the Port Lake Michigan, or his or her on-scene representative.

This notice of enforcement is issued under authority of 33 CFR 165.931 and 5 U.S.C.552 (a). In addition to this notice in the Federal Register, the Coast Guard will provide the maritime community with advance notification of this enforcement period via Broadcast Notice to Mariners or Local Notice to Mariners. The Captain of the Port Lake Michigan or a designated on-scene representative may be contacted via Channel 16, VHF-FM.

Dated: April 21, 2016.
A.B. Cocanour,
Captain, U.S. Coast Guard, Captain of the Port Lake Michigan.

[FR Doc. 2016-10304 Filed 5-2-16; 8:45 am]

BILLING CODE 9110-04-P